DEPARTMENT OF JUSTICE

Notice of Lodging of Consent Decree Under the Clean Water Act

Under 28 CFR 50.7, notice is hereby given that on August 5, 2004, a proposed Settlement Agreement and Final Order (“Settlement Agreement”) in United States and State of California ex rel. California Regional Water Quality Control Board, Los Angeles Region v. City of Los Angeles, Civil Action No. 01-191-RSWL, was lodged with the United States District Court for the Central District of California, Western Division. The United States and the State's action is consolidated with Santa Monica Baykeeper v. The City of Los Angeles, Civil Action No. 98-9039-RSWL.

The United States and the State's action sought injunctive relief and a civil penalty to address sanitary sewer overflows and other violations of the Clean Water Act and the City of Los Angeles's National Pollutant Discharge Elimination System (“NPDES”) permits. Under the Settlement Agreement, the City will (i) begin work on specific projects to increase the sewer system's capacity and submit a report in two years recommending additional capacity projects necessary to assure that the sewer system has sufficient capacity to convey wet weather flows, and (ii) begin work on the rehabilitation and replacement of the sewer pipes in poor condition and submit a report in two years recommending what further rehabilitation and replacement work is necessary (the report must recommend at least the rehabilitation and replacement of 60 miles of pipe per year on a three-year rolling average and 50 miles of pipe per year). Under the Settlement Agreement, the City must also (iii) clean approximately 2,800 miles of pipe on a three-year rolling average, (iv) inspect all restaurants each year and review, and where necessary, improve the City's enforcement of its ordinance regulating the discharge of grease from restaurants, (v) address sewer odors, and (vi) inspect at least 600 miles of pipe annually with closed circuit TV.

The City will pay a cash penalty to the United States of $800,000 and make a payment of $800,000 to the State to resolve the State's civil penalty claims. The State has elected to devote its $800,000 penalty to supplemental environmental projects (“SEPs”). The Settlement Agreement requires the City to spend an additional $7.7 million on SEPs, bringing the total devoted to SEPs to $8.5 million. The Settlement Agreement contains a list of possible SEPs, most of which are wetland and stream restoration projects, located primarily along the Los Angeles River, that are designed to restore aquatic areas and provide water quality benefits by treating local runoff.

The United States Department of Justice will receive for a period of thirty (30) days from the date of this publication comments relating to the Settlement Agreement. Comments should be addressed to the Assistant Attorney General, Environment and Natural Resources Division, P.O. Box 7611, U.S. Department of Justice, Washington, DC 20044-7611, and should refer to United States v. City of Los Angeles, D.J. Ref. No. 90-5-1-1-809/1.

The Settlement Agreement may be examined during the public comment period on the following Department of Justice Web site: http://www.usdoj.gov/enrd/open.html. A copy of the Settlement Agreement may also be obtained by mail from the Settlement Agreement Library, P.O. Box 7611, U.S. Department of Justice, Washington, DC 20044-7611 or by faxing or e-mailing a request to Tonia Fleetwood (tonia.fleetwood@usdoj.gov), fax number (202) 514-0097, phone confirmation number (202) 514-1547. In requesting a copy from the Settlement Agreement Library, please enclose a check in the amount of $21.25 (25 cents per page reproduction cost) payable to the U.S. Treasury.

Benjamin Fisherow,
Deputy Section Chief, Environmental Enforcement Section, Environment and Natural Resources Division.

[FR Doc. 04-18946 Filed 8-17-04; 8:45 am]

BILLING CODE 4410-15-M